SECURITIES AND EXCHANGE COMMISSION

[Release No. 34-92719; File No. SR-CboeBZX-2021-036]

Self-Regulatory Organizations; Cboe BZX Exchange, Inc.; Notice of Withdrawal of a Proposed Rule Change To Exclude a National Best Bid or Offer From the Calculation of the BZX Official Closing Price, as Provided in Rule 11.23(c)(2)(B)(ii)(b), That Is Outside the Bands Provided Under the Plan To Address Extraordinary Market Volatility

August 20, 2021.

On April 29, 2021, Cboe BZX Exchange, Inc. (the “Exchange”) filed with the Securities and Exchange Commission (“Commission”), pursuant to Section 19(b)(1) of the Securities Exchange Act of 1934 (“Act”) ¹ and Rule 19b-4 thereunder,² a proposed rule change to exclude a National Best Bid or Offer ³ (“NBBO”) from the calculation of the BZX Official Closing Price, as provided in Rule 11.23(c)(2)(B)(ii)(b), that is outside the bands provided under the National Market System Plan to Address Extraordinary Market Volatility (“Limit Up-Limit Down Plan” or “LULD Plan”).⁴

¹ 15 U.S.C. 78s(b)(1).

² 17 CFR 240.19b-4.

³ See BZX Rule 1.5(o).

⁴ See Securities Exchange Act Release No. 88704 (April 21, 2020), 85 FR 23383 (April 27, 2020) (File No. 4-634) (Amendment No. 20 Approval Order).

The proposed rule change was published for comment in the Federal Register on May 18, 2021.⁵ On June 25, 2021, pursuant to Section 19(b)(2) of the Act,⁶ the Commission extended the time period within which to approve the proposed rule change, disapprove the proposed rule change, or institute proceedings to determine whether to approve or disapprove the proposed rule change to August 16, 2021.⁷ The Commission has received no comment letters on the proposed rule change. On August 12, 2021, the Exchange withdrew the proposed rule change (SR-CboeBZX-2021-036).

⁵ See Securities Exchange Act Release No. 91875 (May 12, 2021), 86 FR 26982 (May 18, 2021) (SR-CboeBZX-2021-036) (“Notice”).

⁶ 15 U.S.C. 78s(b)(2).

⁷ See Securities Exchange Act Release No. 92268 (June 25, 2021), 86 FR 35143 (July 1, 2021).

For the Commission, by the Division of Trading and Markets, pursuant to delegated authority.⁸
⁸ 17 CFR 200.30-3(a)(12).
Jill M. Peterson,
Assistant Secretary.

[FR Doc. 2021-18345 Filed 8-25-21; 8:45 am]

BILLING CODE 8011-01-P